Proclamation 10197 of April 30, 2021

Law Day, U.S.A., 2021

By the President of the United States of America

A Proclamation

In the many years I spent as a United States Senator and as Vice President, I logged hundreds of thousands of miles of travel, and had the opportunity to meet with foreign officials all over the world. Those experiences impressed upon me a truth about America: that what makes our Nation unique is the depth of our devotion to the rule of law.

Unlike so many of the Nations of the world, the United States wasn't built around an ethnicity, religion, or tribe—it was built around common ideals. The rule of law is central to those ideals. It is what limits the abuse of power in our Nation, whether by an individual or a mob. It reflects President John Adams' desire to establish “a government of laws and not of men.” It is how Thomas Paine distinguished us from the rest of the world—declaring that, while in other Nations, the king is law, “in America, the law is king.”

Many Nations around the world still struggle to capture what we have captured here in America—not only in the text of our founding documents, but in the character of our people: reverence for the law. That reverence is essential to our democracy. Without it, equality and justice cannot be advanced, human rights cannot be protected, democratic norms and values cannot be secured, and disagreements cannot be peaceably resolved. The rule of law has also been a critical vehicle for delivering the full promise of American democracy to all of our people, particularly those excluded in our Nation's founding. Today, on Law Day, we rededicate ourselves to furthering that promise and strengthening those ideals, and we renew our commitment to ensure that every American's constitutional rights are protected.

The theme of this year's Law Day, “Advancing the Rule of Law Now,” is particularly fitting at this moment in our Nation's history. Recently, we were again called to recognize that democracy is precious and fragile. We have witnessed grave threats to our democratic institutions and to the rule of law itself. These tragic events have taught us once again that when we are united, we can overcome the greatest challenges and move our country forward—but it takes a commitment to law over demagoguery, and the enforcement of law free from political interference, to do so.

Previous generations of Americans have lived through civil war, economic depressions, the rise of fascism, and world wars—and today, too many Americans continue to face pervasive racism, xenophobia, nativism, and other forms of intolerance. This year, the United States marks the 100th anniversary of the Tulsa, Oklahoma, race massacre, in which a mob of white residents attacked and killed between 100 and 300 Black residents and destroyed more than 1,000 homes and businesses in a thriving community known as Black Wall Street. Today, a century later, we still face chilling echoes of those threats to equality, justice, and the rule of law in the form of rising political extremism, white supremacy, and domestic terrorism.

My Administration is committed to advancing the rule of law within the United States so that everyone is ensured equal justice under the law, an equal place in our democracy, and the opportunity to fulfill their potential free from abuses of power. On my first day in office, I signed an historic Executive Order on Advancing Racial Equity and Support for Underserved Communities Through the Federal Government, to advance equity and racial justice and redress systemic racism across a comprehensive sweep of Federal policies, laws, and programs. I also signed a memorandum on Condemning and Combating Racism, Xenophobia, and Intolerance Against Asian Americans and Pacific Islanders in the United States, stating that the Federal Government has a responsibility to prevent racism, xenophobia, and intolerance against anyone in the United States—particularly, today, against Asian Americans who have spent the last year enduring unconscionable and un-American harassment and attacks—as well as an additional Executive Order on Preventing and Combating Discrimination on the Basis of Gender Identity or Sexual Orientation. I have directed Federal agencies to facilitate access to voting using their existing legal authority, and my Administration supports further legislation to protect the sacred right to vote and make it more equitable and accessible for all Americans to exercise that right.

We are also working to advance the rule of law across the world by rebuilding global alliances; confronting authoritarianism; and reengaging with other governments, civil society organizations, and multilateral organizations, such as the United Nations. We must ensure that we are able to lead not by the example of our power, but by the power of our example. As I have said on many occasions, our diplomacy must be rooted in America's most cherished democratic values: defending freedom, championing opportunity, upholding universal rights, respecting the rule of law, and treating every person with dignity.

On this Law Day, U.S.A., I urge my fellow Americans to join me in recommitting ourselves to promoting and advancing the rule of law and delivering freedom and equality for all.

NOW, THEREFORE, I, JOSEPH R. BIDEN JR., President of the United States of America, in accordance with Public Law 87-20, as amended, do hereby proclaim May 1, 2021, as Law Day, U.S.A. I call upon all Americans to acknowledge the importance of our Nation's legal and judicial systems with appropriate ceremonies and activities, and to display the flag of the United States in support of this national observance.

IN WITNESS WHEREOF, I have hereunto set my hand this thirtieth day of April, in the year of our Lord two thousand twenty-one, and of the Independence of the United States of America the two hundred and forty-fifth.

[FR Doc. 2021-09594

Filed 5-4-21; 8:45 am]

Billing code 3295-F1-P